NUCLEAR REGULATORY COMMISSION

10 CFR Part 9

RIN 3150-AH66

Charges for Reproducing Records

AGENCY: Nuclear Regulatory Commission.

ACTION: Final rule.

SUMMARY: The Nuclear Regulatory Commission (NRC) is revising its charges for copying publicly available documents by the copy service at the NRC's Public Document Room (PDR). The revised charges for copying publicly available documents are listed in § 9.35 Duplication fees. This document is necessary to inform the public of these changes to the NRC's regulations.

DATES: Effective Date: October 18, 2006.

FOR FURTHER INFORMATION CONTACT: Anna McGowan, Chief, Technical Information Center Section, Office of Information Services, Nuclear Regulatory Commission, Washington, DC 20555-0001, 301-415-7204, or 1-800-397-4209 (toll-free).

SUPPLEMENTARY INFORMATION: The NRC is revising its charges for copying publicly available documents by the copy service at the NRC's PDR. The PDR retains a copy service to reproduce for a fee publicly available documents, regardless of format. Since the NRC's Agencywide Documents Access and Management System (ADAMS) was implemented in November 2000, making recently released documents available in full text online, there has been a significant reduction in the volume of documents being reproduced. The total volume of pages copied has decreased from over 1,600,000 in FY2000 to 529,600 in FY2003 and 321,000 pages in FY2004. Because the copy service contract is at no cost to the government, the contractor must provide all supplies and equipment. Due to this reduction in the total volume of pages copied, the copying fees charged by the NRC's contractor have changed. The NRC believes that the revised prices, which were the result of a competitive solicitation process, are reasonable and in line with the prices charged by other Federal agencies.

The contractor is able to accept orders from the PDR reference staff via telephone (301-415-4737), fax (301-415-3548), standard mail, or e-mail (pdr@nrc.gov), and from requesters in the PDR Reading Room located at NRC Headquarters, One White Flint North, 11555 Rockville Pike, Room O-1F23, Rockville, Maryland.

The ADAMS retrieval system provides text and image files of NRC's public documents. The documents may be accessed through the NRC's Public Electronic Reading Room on the Internet http://www.nrc.gov/reading-rm/adams.html. If you do not have access to ADAMS or if there are problems in accessing the documents located in ADAMS, contact the NRC's PDR reference staff at 1-800-397-4209, 301-415-4737, or by e-mail to pdr@nrc.gov.

The Freedom of Information Act (FOIA) requires each federal agency covered by the Act to promulgate regulations, pursuant to notice and receipt of public comment, specifying the schedule of fees applicable to processing requests for agency records. 5 U.S.C. 552(a)(4)(A)(i). The Commission published a proposed rule containing a schedule of fees for public comment on August 6, 1987 (52 FR 29196). The Commission received six comments on the proposed rule (52 FR 49351; December 31, 1987). All six comments were addressed in the final rule establishing the fee schedule (52 FR 49351-54; December 31, 1987).

The revisions to the copying charges contained in this amendment are not intended to affect any rights under the FOIA. As explained above, the revisions are necessary to update the Commission's procedures to reflect current copying charges, which have changed due to the reduction in the volume of documents being reproduced. The NRC believes that the revised fees, which were the result of a competitive solicitation process, represent reasonable standard charges for document duplication.

Because this amendment deals solely with agency practice and procedure, the NRC has determined that the notice and comment provisions under the Administrative Procedure Act do not apply under 5 U.S.C. 553(b)(A).

Environmental Impact: Categorical Exclusion

The NRC has determined that this final rule is the type of action described in categorical exclusion 10 CFR 51.22(c)(1) and (2). Therefore, neither an environmental impact statement nor an environmental assessment has been prepared for this final rule.

Paperwork Reduction Act Statement

This final rule does not contain a new or amended information collection requirement subject to the Paperwork Reduction Act of 1995 (44 U.S.C. 3501 et seq.). Existing requirements were approved by the Office of Management and Budget, approval number 3150-0043.

Public Protection Notification

If a means used to impose an information collection does not display a currently valid OMB control number, the NRC may not conduct or sponsor, and a person is not required to respond to, the information collection.

Regulatory Analysis

A regulatory analysis has not been prepared for this final rule because the final rule makes only minor conforming changes to the regulations that reference Section 202 of the Energy Reorganization Act and minor changes to other regulations.

Backfit Analysis

The NRC has determined that these amendments do not involve any provisions which would impose backfits as defined in 10 CFR 50.109(a)(1); therefore a backfit analysis is not necessary.

Congressional Review Act

In accordance with the Congressional Review Act, the NRC has determined that this action is not a major rule and has verified this determination with the Office of Information and Regulatory Affairs of OMB.

List of Subjects in 10 CFR Part 9

Criminal penalties, Freedom of information, Privacy, Reporting and record keeping requirements, the Sunshine Act.

For the reasons set out in the preamble and under the authority of the Atomic Energy Act of 1954, as amended, the Energy Reorganization Act of 1974, as amended, and 5 U.S.C. 552 and 553, the NRC is adopting the following amendments to 10 CFR part 9.

PART 9—PUBLIC RECORDS

1. The authority citation for part 9 continues to read as follows:

Authority: Sec. 161, 68 Stat. 948, as amended (42 U.S.C. 2201); sec. 201, 88 Stat. 1242, as amended (42 U.S.C. 5841); sec. 1704, 112 Stat. 2750 (44 U.S.C. 3504 note).

Subpart A also issued 5 U.S.C. 552; 31 U.S.C. 9701; Pub. L. 99-570.

Subpart B is also issued under 5 U.S.C. 552a.

Subpart C is also issued under 5 U.S.C. 552b.

2. Section 9.35 is amended by removing paragraph (a)(2), redesignating paragraphs (a)(3), (a)(4), and (a)(5), as (a)(2), (a)(3), and (a)(4), respectively, and revising paragraph (a)(1) to read as follows:

§ 9.35 Duplication fees.

(a)(1) The charges by the duplicating service contractor for the duplication of records made available under § 9.21 at the NRC Public Document Room (PDR), One White Flint North, 11555 Rockville Pike, Room O-1F23, Rockville, Maryland, may be found on the NRC's Web site at http://www.nrc.gov/reading-rm/pdr/copy-service.html or by calling the PDR at 1-800-397-4209 or 301-415-4737, by e-mail pdr@nrc.gov and are as follows:

(i) Paper-to-paper reproduction is $0.30 per page for standard size (up to and including 11″ x 14″ reduced). Pages 11″ x 17″ are $0.30 per page. Pages larger than 11″ x 17″, including engineering drawings, are $1.50 per square foot.

(ii) Pages larger than 11″ x 17″ are $1.50 per square foot.

(iii) Microfiche-to-paper reproduction is $0.30 per page. Aperture card blowback to paper is $3.00 per square foot.

(iv) Microfiche card duplication is $5.00 per card; CD-ROM duplication is $10.00 each.

(v) The charges for Electronic Full Text (EFT) (ADAMS documents) copying are as follows:

(A) Electronic Full Text (EFT) copying of ADAMS documents to paper (applies to images, OCR TIFF, and PDF text) is $0.30 per page.

(B) EFT copying of ADAMS documents to CD-ROM is $5.00 per CD plus $0.15 per page.

(C) CD-ROM-to-paper reproduction is $0.30 per page.

(vi) Priority rates (rush processing) are as follows:

(A) The priority rate offered for standard size paper-to-paper reproduction is $0.35, microfiche-to-paper reproduction is $0.40, EFT copying of ADAMS documents to paper and CD-ROM-to-paper production is $0.35 per page.

(B) The priority rate for aperture cards is $3.50 per square foot. The priority rate for copying EFT to CD-ROM is $6.00 per CD-ROM plus $0.20 per page.

(vii) Facsimile charges are $1.00 per page for local calls; $2.00 per page for U.S. long distance calls, and $6.00 per page for foreign long distance calls, plus the regular per page copying charge.

* * * * *

Dated at Rockville, Maryland, this 4th day of September 2006.
For the Nuclear Regulatory Commission.
Luis A. Reyes,
Executive Director for Operations.

[FR Doc. E6-15420 Filed 9-15-06; 8:45 am]

BILLING CODE 7590-01-P